DEPARTMENT OF TRANSPORTATION

Federal Aviation Administration

14 CFR Part 71

[Docket No. FAA-2023-2567; Airspace Docket No. 23-ANM-32]

RIN 2120-AA66

Establishment of United States Area Navigation Routes Q-143 and T-467 in Southern Utah

AGENCY: Federal Aviation Administration (FAA), DOT.

ACTION: Final rule.

SUMMARY: This action establishes United States Area Navigation Routes (RNAV) Q-143 and T-467 in southern Utah. The FAA is taking this action to provide alternative routing around the TIPET and SEVIER Air Traffic Control Assigned Airspaces (ATCAA) and the White Elk and Gandy Military Operations Areas (MOA).

DATES: Effective date 0901 UTC, September 5, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would increase the efficiency and safety of the flow of air traffic within the National Airspace System (NAS).

History

The FAA published a NPRM for Docket No. FAA-2023-2567 in the Federal Register (89 FR 1854; January 11, 2024), proposing to establish RNAV routes Q-143 and T-467 in southern Utah. Interested parties were invited to participate in this rulemaking effort by submitting comments on the proposal. One comment was received which expressed several concerns, most of which are beyond the scope of this action. However, the commentor did raise a specific issue with regards to aircraft overflying wilderness areas. The FAA conducted an environmental review in accordance with Department of Transportation Order 5610.1, Procedures for Considering Environmental Impacts, FAA Order 1050.1, Environmental Impacts: Policies and Procedures, and FAA Order JO 7400.2, Procedures for Handling Airspace Matters. Impacts to wilderness areas are a type of extraordinary circumstance found in FAA Order 1050.1F. The proposed airways were found to fly over three wilderness areas. The review determined that: regarding Q-143, it will have no impact on these wilderness areas due to Q routes are flown at flight level 180 or higher. regarding T-467, T routes are flown between 1,200 ft Above Ground Level (AGL) and up to, but not including, 18,000 ft AGL. Past flight data shows that 19 aircraft per year fly a similar path the three wilderness areas, any effects due to noise or visual impacts will be insignificant and therefore the proposed action does not constitute an extraordinary circumstance. Since the FAA does not expect an increase in operations from a similar path, the FAA projects same number of aircraft to fly T-467. Additionally, none of the Minimum Enroute Altitudes for this route are lower than 2,000 ft AGL. Considering this small number of aircraft per year flying over the three wilderness areas, any effects due to noise or visual impacts will be insignificant, and therefore the proposed action does not constitute an extraordinary circumstance.

This meets the current guidance for aircraft operating over charted United States wildlife refuges, parks and forest areas as published in section 7-5-6(b) of the Aeronautical Information Manual (AIM).

Incorporation by Reference

United States Area Navigation routes are published in paragraph 2006 (Q routes) and paragraph 6011 (T routes) of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing RNAV routes Q-143 and T-467 in southern Utah. The FAA is taking this action to provide alternative routing around the TIPET and SEVIER ATCAAs and the White Elk and Gandy MOAs when active. The amendment is described below.

Q-143: Q-143 extends between the WINEN, UT WP to the BROPH, ID, WP and provides alternate routing to Q-73 when the TIPET and SEVIER ATCAAs are active.

T-467: T-467 extends between the BERYL, UT, Fix and the BROPH, ID, WP and provides alternative routing when the White Elknd Gandy MOAs are active.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of establishing RNAV routes Q-143 and T-467 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5i, which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006 United States Area Navigation Routes

* * * * *

Q-143 WINEN, UT to BROPH, ID [New]
WINEN, UT | WP | (Lat. 37°56′00.00″ N, long. 113°30′00.00″ W)
TESSA, NV | WP | (Lat. 39°39′15.04″ N, long. 115°16′15.97″ W)
RUBII, NV | WP | (Lat. 40°27′03.58″ N, long. 115°16′15.97″ W)
CLEIN, NV | WP | (Lat. 41°53′37.36″ N, long. 114°52′51.96″ W)
BROPH, ID | WP | (Lat. 42°43′15.71″ N, long. 114°52′31.80″ W)

* * * * *

Paragraph 6011 United States Area Navigation Routes.

T-467 BERYL, UT to BROPH, ID [New]
BERYL, UT | FIX | (Lat. 37°54′00.17″ N, long. 113°23′08.58″ W)
ELY, NV (ELY) | VOR/DME | (Lat. 39°17′53.25″ N, long. 114°50′53.90″ W)
TESSA, NV | WP | (Lat. 39°39′15.04″ N, long. 115°16′15.97″ W)
RUBII, NV | WP | (Lat. 40°27′03.58″ N, long. 115°16′15.97″ W)
WELLS, NV (LWL) | VOR/DME | (Lat. 41°08′41.29″ N, long. 114°58′39.04″ W)
YIKUK, NV | FIX | (Lat. 41°59′05.16″ N, long. 114°51′49.12″ W)
BROPH, ID | WP | (Lat. 42°43′15.71″ N, long. 114°52′31.80″ W)

Issued in Washington, DC, on June 18, 2024.
Frank Lias,
Manager, Rules and Regulations Group.

[FR Doc. 2024-13784 Filed 6-25-24; 8:45 am]

BILLING CODE 4910-13-P